FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 011346-020.

Title: Israel Trade Conference Agreement.

Parties: American President Lines, Ltd.; A.P. Moller-Maersk A/S; Maersk Line Limited; and Zim Integrated Shipping Services, Ltd.

Filing Party: Howard A. Levy, Esq.; Chairman; Israel Trade Conference; 80 Wall Street, Suite 1117; New York, NY 10005-3602.

Synopsis: The amendment deletes the admission fee and financial guarantee that was required by the Agreement.

Agreement No.: 012074-001.

Title: HLAG/UASC Slot Exchange Agreement.

Parties: Hapag-Lloyd AG and United Arab Shipping Company.

Filing Party: Wayne Rohde, Esq.; Sher & Blackwell, LLP; 1850 M Street, NW., Suite 900; Washington, DC 20036.

Synopsis: The amendment adds Egypt to the geographic scope of the agreement.

Agreement No.: 012089.

Title: MOL/Swiss Shipping Space Charter Agreement.

Parties: Mitsui O.S.K. Lines, Ltd. and Swiss Shipping Line GmbH.

Filing Party: Robert B. Yoshitomi, Esq.; Nixon Peabody LLP; 555 West Fifth Street, 46th Floor, Los Angeles, CA 20573.

Synopsis: The agreement authorizes Mitsui O.S.K. Lines, Ltd. to charter space to Swiss Shipping for vehicles on Ro-Ro vessels in the trade from the Atlantic and Gulf Coasts of the United States to Benin.

Agreement No.: 012090.

Title: Seaboard/Seafreight Space Charter Agreement.

Parties: Seaboard Marine Ltd. and Seafreight Line, Ltd.

Filing Party: Wayne R. Rohde, Esq.; Sher and Blackwell LLP; 1850 M Street, NW., Suite 900; Washington, DC 20036.

Synopsis: The agreement authorizes Seaboard to charter space to Seafreight in the trade between ports of Miami, FL and George Town, Grand Cayman.

Agreement No.: 012091.

Title: HLAG/HSDG Slot Charter Agreement.

Parties: Hamburg Sud and Hapag-Lloyd AG.

Filing Party: Wayne R. Rohde, Esq.; Sher & Blackwell LLP; 1850 M Street, NW.; Suite 900; Washington, DC 20036.

Synopsis: The agreement authorizes Hapag-Lloyd to charter slots to Hamburg Sud on its service in the trade between ports on the U.S. Atlantic and Gulf Coasts and the Gulf Coast of Mexico and ports in France, Italy, and Spain.

By Order of the Federal Maritime Commission.
Dated: February 19, 2010.
Karen V. Gregory,
Secretary.

[FR Doc. 2010-3762 Filed 2-24-10; 8:45 am]

BILLING CODE P